ENVIRONMENTAL PROTECTION AGENCY

[FRL-6709-9]

Agency Information Collection Activities: Submission for OMB Review; Comment Request; Revisions to the Information Collection Request (ICR) for the National Water Quality Inventory Reports (Clean Water Act Section 305(b)) and Proposed Revisions to EPA's Regulations Implementing Section 303(d)

AGENCY: Environmental Protection Agency.

ACTION: Notice.

SUMMARY: In compliance with the Paperwork Reduction Act (44 U.S.C. 3501 et seq.), this document announces that an ICR for the proposed revisions to the Water Quality Planning and Management Regulation has been forwarded to the Office of Management and Budget (OMB) for review and approval. The ICR describes the nature of the information collection for the proposed regulation and its expected burden and cost. The ICR also revises the expected burden and costs of the current Section 303(d) program and for Section 305(b) reports.

DATES: Comments must be submitted on or before June 26, 2000.

FOR FURTHER INFORMATION CONTACT: For a copy of EPA ICR Number 1560.06 contact Sandy Farmer at the Environmental Protection Agency (EPA) by mail at Collection Strategies Division; U.S. Environmental Protection Agency (2822); 1200 Pennsylvania Ave., NW, Washington, DC 20460, by phone at (202) 260-2740, by email at farmer.sandy@epa.gov, or download from the Internet at http://www.epa.gov/icr. For technical questions about this ICR, contact Richard Iovanna by phone at (202) 260-5194 or by email at iovanna.rich@epa.gov.

SUPPLEMENTARY INFORMATION: Section 303(d) of the Clean Water Act requires States, Territories, and authorized Tribes to identify and rank waters which do not meet water quality standards following implementation of technology-based controls. Under section 303(d), States, Territories, and authorized Tribes are also required to establish total maximum daily loads (TMDLs) for listed waters not meeting standards as a result of pollutant discharges. In developing the section 303(d) lists, States, Territories, and authorized Tribes are required to consider various sources of water-quality related data and information, including the section 305(b) water quality reports. The section 305(b) reports contain information on the extent of water quality degradation, the pollutants and sources affecting water quality, and progress in controlling water pollution.

The Clean Water Act requires EPA to review and approve or disapprove section 303(d) lists and TMDLs. Currently, there are 56 respondents (the 50 States, the District of Columbia, and the five Territories). Section 303(d) specifically requires States, Territories, and authorized Tribes to develop lists and TMDLs “from time to time” and EPA to review and approve or disapprove the lists and the TMDLs. EPA collects section 305(b) reports from 59 respondents (the 50 States, the District of Columbia, five Territories, and 3 River Basin commissions).

The Office of Management and Budget (OMB) previously approved information collection authority for the submission of section 305(b) reports under 40 CFR 130.10(a) of the EPA Water Quality Management Standards under OMB Number 2040-0071. In 1992, OMB approved an addendum to this ICR clarifying the burden associated with preparing section 303(d) lists of waters for inclusion in the section 305(b) reports. OMB reapproved the ICR for the period 1993-1995, 1996-1998, and then again from March 1999-April 2003 (ICR Number 1560.05, approved April 5, 2000).

Today's proposed ICR (ICR Number 1560.06, OMB Number 2040-0071) proposes revisions to the currently approved ICR based on changes EPA proposed to make to the section 303(d) regulations. These revisions would increase the burden to States, Territories, and authorized Tribes for four section 303(d) activities related to preparation of the section 303(d) lists: revising the listing methodology, establishing schedules for TMDL development, increased public participation, and providing the listing methodology in a new format. EPA's currently approved ICR for the period March 1999 through April 2003 was based on the burden to respondents of the current program and did not include consideration of the impact of the proposed regulations. The revisions contained in the revised ICR include the increased section 303(d) listing burden to States, Territories, and authorized Tribes that would result under the proposed regulations.

As required by OMB's Terms of Clearance for the currently approved ICR, the revised ICR includes the respondent burden associated with developing TMDLs. This burden has not been estimated in previous ICRs, but can now be included due to recent advances in EPA's ability to estimate the cost of developing TMDLs. In this ICR, the burden for developing TMDLs is divided into two parts: the burden associated with the current TMDL regulations, and the additional burden associated with the new requirements for the final revisions to the TMDL regulations. The new requirements add two additional TMDL development tasks: preparation of an implementation plan, and written response to public comments regarding the TMDL.

As required by OMB's Terms of Clearance for the currently approved ICR, the revised ICR also estimates the burden to respondents of providing information as required by section 305(b) on the costs and benefits of attaining water quality standards, and the burden to the Agency of providing guidance to respondents for preparing this information. Although this is not a new requirement, the burden of providing this information has not been estimated in previous ICRs, whether based on the effort associated with the current practices of respondents in providing this information or the availability of better guidance for developing this information.

The revised ICR does not include the reduction in respondent burden resulting from the anticipated final regulations' adoption of a 4-year section 303(d) listing cycle instead of the current 2-year section 303(d) listing cycle because the savings (although substantial over time) would likely not be realized for the period covered by this ICR. It also does not include the reduction in respondent burden resulting from EPA's March 27, 2000 rule removing the federal requirement for States to submit their section 303(d) lists in 2000 (skipping this listing cycle) because the timing of the rule's issuance makes it difficult to estimate the extent to which savings occurred.

EPA has concluded that no government information collection activity duplicates the information requested by this revised ICR and, therefore, it has no other way to obtain the information. Therefore, these responses are mandatory. In addition to EPA, environmental groups will most likely use the information collected to assess the actions of States, Territories, and authorized Tribes. Information collected through the proposed activities is not confidential because all respondents are State agencies, Territorial agencies, and Tribes working entirely in a public forum. The proposed information collection activities do not request information of a sensitive nature from the State, Territorial, or Tribal respondents.

The projected average additional cost associated with the revised section 303(d) rule requirements is estimated to be $218,663 per respondent, and the total annual cost for all 56 respondents is estimated to be $12,245,100 . This estimate does not include any of the savings that will accrue to respondents in future years resulting from the Agency's anticipated adoption of a 4-year section 303(d) listing cycle instead of the current 2-year section 303(d) listing cycle. The average current cost associated with developing TMDLs under the current section 303(d) program is estimated to be $7,653,941 per respondent, and the total annual cost for all 56 respondents is estimated to be $128,620,703. The average current cost associated with developing benefit cost information for the section 305(b) biennial reports is estimated to be $1,750, and the total annual cost for all 59 respondents is estimated to be $103,253. The average potential additional cost associated with developing improved benefit cost information for the section 305(b) biennial reports is estimated to be $25,901 per respondent (depending on the level of detail and sophistication of the analyses), and the total annual potential additional cost for all 59 respondents is estimated to be $1,424,891. Overall, the burden associated with the new requirements amounts to a total of 351,504 hours at a cost of $13,669,991 and the burden associated with the current program requirements amounts to a total of 3,309,950 hours at a cost of $128,723,955. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information. An Agency may not conduct or sponsor, and a person is not required to respond to collection of information unless it displays a currently valid OMB control number. The OMB control numbers for EPA's regulations are listed in 40 CFR part 9 and 48 CFR Chapter 15.

Comments are requested on the Agency's need for this information, the accuracy of the provided burden estimates, and any suggested methods for minimizing respondent burden, including through the use of automated collection techniques. Send comments on the ICR to the Director, Collection Strategies Division; U.S. Environmental Protection Agency (2822); 1200 Pennsylvania Ave., NW, Washington, DC 20460; and to the Office of Information and Regulatory Affairs, Office of Management and Budget, 725 17th St., NW, Washington, DC 20503, marked “Attention: Desk Officer for EPA.” Include the ICR number in any correspondence. Since OMB is required to make a decision concerning the ICR between 30 and 60 days after May 26, 2000, a comment to OMB is best assured of having its full effect if OMB receives it by June 26, 2000. The final rule will respond to any OMB or public comments on the information collection requirements contained in this proposal.

Dated: May 19, 2000
Robert H. Wayland III,
Director, Office of Wetlands, Oceans and Watersheds.

[FR Doc. 00-13441 Filed 5-25-00; 8:45 am]

BILLING CODE 6560-50-P